SURFACE TRANSPORTATION BOARD

[Docket No. EP 748]

Indexing the Annual Operating Revenues of Railroads

The Surface Transportation Board (the Board) is publishing the annual inflation-adjusted index and deflator factors for 2019. The deflator factors are used by the railroads to adjust their gross annual operating revenues for classification purposes. This indexing methodology ensures that railroads are classified based on real business expansion and not on the effects of inflation. Classification is important because it determines the extent to which individual railroads must comply with the Board's reporting requirements.

The Board's deflator factors are based on the annual average Railroad Freight Price Index developed by the Bureau of Labor Statistics. The Board's deflator factor is used to deflate revenues for comparison with established revenue thresholds.

The base year for railroads is 1991. The inflation-adjusted indexes and deflator factors are presented as follows:

¹ In Montana Rail Link, Inc., & Wisconsin Central Ltd., Joint Petition for Rulemaking with Respect to 49 CFR Part 1201, 8 I.C.C.2d 625 (1992), the Board's predecessor, the Interstate Commerce Commission, raised the revenue classification level for Class I railroads from $50 million (1978 dollars) to $250 million (1991 dollars), effective for the reporting year beginning January 1, 1992. The Class II threshold was also raised from $10 million (1978 dollars) to $20 million (1991 dollars). On May 14, 2020, the Board opened a rulemaking proceeding and invited comment on issues related to the Class I carrier revenue threshold determination in response to a petition for rulemaking. Mont. Rail Link, Inc.—Pet. For Rulemaking—Classification of Carriers, EP 763 (STB served May 14, 2020).

Railroad Inflation-Adjusted Index and Deflator Factor Table
Year | Index | Deflator
1991 | 409.50 | ¹ 100.00
1992 | 411.80 | 99.45
1993 | 415.50 | 98.55
1994 | 418.80 | 97.70
1995 | 418.17 | 97.85
1996 | 417.46 | 98.02
1997 | 419.67 | 97.50
1998 | 424.54 | 96.38
1999 | 423.01 | 96.72
2000 | 428.64 | 95.45
2001 | 436.48 | 93.73
2002 | 445.03 | 91.92
2003 | 454.33 | 90.03
2004 | 473.41 | 86.40
2005 | 522.41 | 78.29
2006 | 567.34 | 72.09
2007 | 588.30 | 69.52
2008 | 656.78 | 62.28
2009 | 619.73 | 66.00
2010 | 652.29 | 62.71
2011 | 708.80 | 57.71
2012 | 740.61 | 55.23
2013 | 764.19 | 53.53
2014 | 778.41 | 52.55
2015 | 749.22 | 54.60
2016 | 732.38 | 55.85
2017 | 758.95 | 53.90
2018 | 801.61 | 51.03
2019 | 825.94 | 49.52

Application of the annual deflator factors results in the following annual revenue thresholds:

Railroad Revenue Thresholds
Year | Factor | Class I | Class II
2015 | 0.5460 | 457,913,998 | 36,633,120
2016 | 0.5585 | 447,621,226 | 35,809,698
2017 | 0.5390 | 463,860,933 | 37,108,875
2018 | 0.5103 | 489,935,956 | 39,194,876
2019 | 0.4952 | 504,803,294 | 40,384,263

DATES: The inflation-adjusted indexes and deflator factors are effective January 1, 2019.

FOR FURTHER INFORMATION CONTACT: Pedro Ramirez at (202) 245-0333. Assistance for the hearing impaired is available through the Federal Relay Service at (800) 877-8339.

Board decisions and notices are available at www.stb.gov.

Decided: June 4, 2020.
By the Board, Dr. William J. Brennan, Director, Office of Economics.
Kenyatta Clay,
Clearance Clerk.

[FR Doc. 2020-12501 Filed 6-9-20; 8:45 am]

BILLING CODE 4915-01-P